DEPARTMENT OF AGRICULTURE

Food Safety and Inspection Service

[Docket No. 01-027N]

Bovine Spongiform Encephalopathy (BSE) Current Thinking Paper; Notice of Availability

AGENCY: Food Safety and Inspection Service, USDA.

ACTION: Notice of availability.

SUMMARY: The Food Safety and Inspection Service (FSIS) is announcing the availability of the Agency's current thinking paper on possible actions to minimize human exposure to meat food products from cattle that could contain the infective agent that causes Bovine Spongiform Encephalopathy (BSE). BSE, commonly referred to as “Mad Cow Disease,” is a chronic degenerative disease affecting the nervous system of cattle. Worldwide, there have been more than 178,000 cases since the disease was first diagnosed in 1986 in Great Britain, although no cases of BSE have been confirmed in the United States. Recent laboratory and epidemiological research indicate that there is a causal association between BSE and a variant of Creutzfeldt-Jakob Disease, a slow degenerative disease that affects the central nervous system of humans.

The Agency current thinking paper follows the recent publication of a risk assessment conducted by the Harvard University School of Public Health to analyze and evaluate the U.S. Department of Agriculture's current measures to prevent BSE. FSIS requests comments on both the current thinking paper and the Harvard risk assessment.

ADDRESSES: Copies of the current thinking paper and the Harvard risk assessment are available from the FSIS Docket Clerk, FSIS Docket Room, Room 102, 300 12th Street, SW., Washington, DC 20250-3700. Copies of both documents also are available on the Internet at: http://www.fsis.usda.gov/OPPDE/rdad/default.htm. Send all written comments on the current thinking paper and the risk assessment to the FSIS Docket Room. All comments received will be considered part of the public record and will be available for viewing in the Docket Room between 8:30 a.m. and 4:30 p.m. Monday through Friday.

FOR FURTHER INFORMATION CONTACT: Dr. Daniel Engeljohn, Director, Regulations and Directives Development Staff, Office of Policy, Program Development and Evaluation, Food Safety and Inspection Service, U.S. Department of Agriculture, (202) 720-5627.

Done in Washington, DC on: January 15, 2002.
Ronald F. Hicks,
Acting Associate Administrator.

[FR Doc. 02-1342 Filed 1-15-02; 2:09 pm]

BILLING CODE 3410-DM-P